OFFICE OF PERSONNEL MANAGEMENT

Reinstatement of a Previously Approved Information Collection: General Request for Investigative Information (INV 40), Investigative Request for Employment Data and Supervisor Information (INV 41), Investigative Request for Personal Information (INV 42), Investigative Request for Educational Registrar and Dean of Students Record Data (INV 43), and Investigative Request for Law Enforcement Data (INV 44)

AGENCY: U.S. Office of Personnel Management.

ACTION: 30-day notice and request for comments.

SUMMARY: The National Background Investigation Bureau (NBIB), U.S. Office of Personnel Management (OPM) is notifying the general public and other Federal agencies that OPM proposes to request the Office of Management and Budget (OMB) to reinstate a previously approved information collection, General Request for Investigative Information (INV 40), Investigative Request for Employment Data and Supervisor Information (INV 41), Investigative Request for Personal Information (INV 42), Investigative Request for Educational Registrar and Dean of Students Record Data (INV 43), and Investigative Request for Law Enforcement Data (INV 44).

DATES: Comments are encouraged and will be accepted until September 13, 2018. This process is conducted in accordance with 5 CFR 1320.10.

ADDRESSES: Interested persons are invited to submit written comments on the proposed information collection to the Office of Information and Regulatory Affairs, Office of Management and Budget, 725 17th Street NW, Washington, D.C. 20503, Attention: Desk Officer for the Office of Personnel Management or sent via electronic mail to oira_submission@omb.eop.gov or faxed to (202) 395-6974.

FOR FURTHER INFORMATION CONTACT: A copy of this information collection, with applicable supporting documentation, may be obtained by contacting NBIB, U.S. Office of Personnel Management, 1900 E Street NW, Washington, D.C. 20415, Attention: Donna McLeod or by electronic mail at FISFormsComments@opm.gov.

SUPPLEMENTARY INFORMATION: As required by the Paperwork Reduction Act of 1995, 44 U.S.C. 3507(a)(1), OPM is providing an additional 30 days for public comments. OPM previously solicited comments for this collection, with a 60-day public comment period, at 83 FR 29948 (January 24, 2018). No comments were received. This notice announces that OPM has submitted to OMB a request to reinstate a previously approved information collection, OMB number 3206-0165, General Request for Investigative Information (INV 40), Investigative Request for Employment Data and Supervisor Information (INV 41), Investigative Request for Personal Information (INV 42), Investigative Request for Educational Registrar and Dean of Students Record Data (INV 43), and Investigative Request for Law Enforcement Data (INV 44). The public has an additional 30-day opportunity to comment.

The INV 40, 41, 42, 43, and 44 are used to conduct the “written inquiries” portion of the investigation, to include investigations for suitability or fitness for Civil Service, nonappropriated fund, or contract employment pursuant to standards issued under Civil Service Rule V, E.O. 13488, as amended, E.O. 13764, and 5 CFR part 731; investigations for employment in a sensitive national security position or for eligibility for access to classified information pursuant to standards issued under E.O. 12968, as amended, E.O. 13764, and 5 CFR part 1400; and investigations for identity credentials for long-term physical and logical access to Federally-controlled facilities and information systems, pursuant to standards issued under E.O. 13764. The INV forms 40 and 44, in particular, facilitate OPM's access to criminal history record information under 5 U.S.C. 9101.

The content of the INV forms is also designed to meet notice requirements for personnel investigations specified by 5 CFR 736.102(c). These notice requirements apply to any “investigation . . . to determine the suitability, eligibility, or qualifications of individuals for Federal employment, for work on Federal contracts, or for access to classified information or restricted areas.”

Analysis

Agency: NBIB, U.S. Office of Personnel Management.

Title: General Request for Investigative Information (INV 40), Investigative Request for Employment Data and Supervisor Information (INV 41), Investigative Request for Personal Information (INV 42), Investigative Request for Educational Registrar and Dean of Students Record Data (INV 43), and Investigative Request for Law Enforcement Data (INV 44).

OMB Number: 3206-0165.

Affected Public: None of the forms is used for any purpose other than a personnel background investigation. The completed forms are maintained by OPM subject to the protections of the Privacy Act of 1974, as amended.

Procedurally, the subject of a personnel background investigation discloses the identity of relevant sources, such as supervisors, coworkers, neighbors, friends, current or former spouses, instructors, relatives, or schools attended, on the standard form (SF) 85, Questionnaire for Non-Sensitive Positions; the SF 85P, Questionnaire for Public Trust Positions; or the SF 86, Questionnaire for National Security Positions. After OPM receives a completed SF 85, SF 85P, or SF 86, the INV forms are distributed to the provided source contacts through an automated mailing operation.

The INV 40 is used to collect records from a Federal or State record repository or a credit bureau. The INV 44 is used to collect law enforcement data from a criminal justice agency. The INV 41, 42, and 43 are sent to employment references, associates, and schools attended. The forms disclose that the source's name was provided by the subject to assist in completing a background investigation to help determine the subject's suitability for employment or security clearance, and request that the source complete the form with information to help in this determination. Generally the subject of the investigation will identify these employment references, associates, and schools on his or her SF 85, SF 85P, or SF 86 questionnaire. If information is omitted on the questionnaire, however, the information may be provided in a follow-up contact between the subject and an investigator.

Number of Respondents: 5,682,744 (58,071 (INV 40); 3,358,486 (INV 41); 56,090 (INV 42); 855,051 (INV 43); 1,355,046 (INV 44)).

Estimated Time per Respondent: 5 minutes.

Total Burden Hours: 473,562 (4,839 (INV 40); 279,874 (INV 41); 4,674 (INV 42); 71,254 (INV 43); 112,921 (INV 44))

U.S. Office of Personnel Management.
Jeff T.H. Pon,
Director.

[FR Doc. 2018-17431 Filed 8-13-18; 8:45 am]

BILLING CODE 6325-53-P